DEPARTMENT OF TRANSPORTATION

Federal Aviation Administration

14 CFR Part 39

[Docket No. FAA-2018-0740; Product Identifier 2016-SW-045-AD]

RIN 2120-AA64

Airworthiness Directives; Bell Helicopter Textron Canada Limited Helicopters

AGENCY: Federal Aviation Administration (FAA), DOT.

ACTION: Notice of proposed rulemaking (NPRM).

SUMMARY: We propose to adopt a new airworthiness directive (AD) for Bell Helicopter Textron Canada Limited (Bell) Model 206A, 206B, 206L, 206L-1, 206L-3, 206L-4, and 407 helicopters. This proposed AD would require inspecting and cleaning the oil supply restrictor (restrictor) to the freewheel assembly. This proposed AD is prompted by reports of a blocked oil line restrictor in the freewheel lubrication system. The proposed actions are intended to address an unsafe condition on these products.

DATES: We must receive comments on this proposed AD by October 22, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2018-0740; or in person at Docket Operations between 9 a.m. and 5 p.m., Monday through Friday, except Federal holidays. The AD docket contains this proposed AD, the Transport Canada AD, the economic evaluation, any comments received, and other information. The street address for Docket Operations (telephone 800-647-5527) is in the ADDRESSES section. Comments will be available in the AD docket shortly after receipt.

For service information identified in this proposed rule, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

FOR FURTHER INFORMATION CONTACT: David Hatfield, Aviation Safety Engineer, Safety Management Section, Rotorcraft Standards Branch, FAA, 10101 Hillwood Pkwy., Fort Worth, TX 76177; telephone (817) 222-5110; email david.hatfield@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

Transport Canada, which is the aviation authority for Canada, has issued Canadian AD No. CF-2016-13, dated May 16, 2016 (AD No. CF-2016-13), to correct an unsafe condition for Bell Model 206A, 206B, 206L, 206L-1, 206L-3, 206L-4, and 407 helicopters. Transport Canada advises that they have received two reports of torsional overload failure of the main rotor mast caused by a blocked oil line restrictor in the freewheel lubrication system. Transport Canada states the restrictor may become contaminated during maintenance, causing blockage. Transport Canada further states that a blocked restrictor could cause the freewheel assembly to malfunction and result in failure of the main rotor mast and loss of control of the helicopter.

Additionally, the Canadian AD advises that although certain later versions of these helicopters are equipped with a filter in the freewheel lubrication system that is designed to trap contaminants and prevent blockage of the restrictor, installation of the filter does not guarantee the restrictor will remain free of contaminants. According to Transport Canada, one occurrence of restrictor blockage resulted from contaminants being introduced downstream from the filter, which subsequently caused failure of the freewheel assembly. For these reasons, AD No. CF-2016-13 requires inspecting and cleaning the restrictors and filters to reduce the risk of freewheel failure.

FAA's Determination

These helicopters have been approved by the aviation authority of Canada and are approved for operation in the United States. Pursuant to our bilateral agreement with Canada, Transport Canada, its technical representative, has notified us of the unsafe condition described in its AD. We are proposing this AD because we evaluated all known relevant information and determined that an unsafe condition is likely to exist or develop on other products of the same type design.

Related Service Information Under 1 CFR Part 51

We reviewed Bell Alert Service Bulletin (ASB) 206-14-132 for Model 206A/B and TH-67 helicopters; ASB 206L-14-174 for Model 206L, 206L-1, 206L-3, and 206L-4 helicopters; and ASB 407-14-106 for Model 407 helicopters. Each ASB is Revision A and dated February 9, 2016. This service information specifies removing, cleaning, inspecting, and reinstalling certain freewheel assembly components. ASB 206-14-132 and ASB 206L-14-174 also describe procedures for replacing the reducer with a filter if not already installed.

This service information is reasonably available because the interested parties have access to it through their normal course of business or by the means identified in the ADDRESSES section.

Proposed AD Requirements

For all affected models, this AD would require, within 100 hours time-in-service, inspecting and cleaning the freewheel oil supply system. If there is blockage in the restrictor, disassembling and inspecting the freewheel assembly for condition and wear would be required before further flight. Additionally, for Model 206A, 206B, 206L, 206L-1, 206L-3, and 206L-4 helicopters, this proposed AD would require replacing the reducer with a filter, part number 50-075-1.

Costs of Compliance

We estimate that this proposed AD would affect 2,227 helicopters of U.S. Registry. We estimate that operators may incur the following costs in order to comply with this proposed AD. At an average labor rate of $85 per hour, inspecting and cleaning the freewheel oil supply system would require about 1 work-hour, for a cost per helicopter of $85 and $189,295 for the U.S. fleet, per inspection cycle.

If required, inspecting the freewheel assembly would require about 1 work-hour, for a cost per helicopter of $85.

If required, replacing a restrictor with a filter would require about 1 work-hour and required parts would cost $125, for a cost per helicopter of $210.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bell Helicopter Textron Canada Limited (Bell): Docket No. FAA-2018-0740; Product Identifier 2016-SW-045-AD.

(a) Applicability

This AD applies to Bell Model 206A, 206B, 206L, 206L-1, 206L-3, 206L-4, and 407 helicopters, certificated in any category.

(b) Unsafe Condition

This AD defines the unsafe condition as a blocked oil line restrictor. This condition could cause failure of the freewheel assembly, which could result in failure of the main rotor mast and subsequent loss of control of the helicopter.

(c) Comments Due Date

We must receive comments by October 22, 2018.

(d) Compliance

You are responsible for performing each action required by this AD within the specified compliance time unless it has already been accomplished prior to that time.

(e) Required Actions

Within 100 hours time-in-service:

(1) For all helicopters:

(i) Inspect the oil line restrictor for blockage. If there is any blockage in the restrictor, before further flight, inspect the freewheel assembly clutch, inner shaft, outer shaft, forward seal, cap, and bearings for wear, corrosion, nicks, scratches, and cracks; the splines for wear, cracks, chipped teeth, and broken teeth; the housing for flaking; and for free rotation and engagement of the clutch and bearing. If there is any damage that exceeds allowable limits or if the clutch or bearing does not engage or freely rotate, before further flight, repair or replace the freewheel assembly.

(ii) Clean, inspect, and flush each removed fitting, restrictor, tube, hose, and filter with dry cleaning solvent. Do not approve for return to service until each restrictor is free from contamination.

(2) For Model 206A, 206B, 206L, 206L-1, 206L-3, and 206L-4 helicopters with a reducer, replace the reducer with a filter part number 50-075-1.

(f) Special Flight Permits

Special flight permits are prohibited.

(g) Alternative Methods of Compliance (AMOCs)

(1) The Manager, Safety Management Group, FAA, may approve AMOCs for this AD. Send your proposal to: David Hatfield, Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

The subject of this AD is addressed in Transport Canada AD No. CF-2016-13, dated May 16, 2016. You may view the Transport Canada AD on the internet at http://www.regulations.gov in the AD Docket.

(i) Subject

Joint Aircraft Service Component (JASC) Code: 6300, Main Rotor Drive System.

Issued in Fort Worth, Texas, on August 10, 2018.
Lance T. Gant,
Director, Compliance & Airworthiness Division, Aircraft Certification Service.

[FR Doc. 2018-17902 Filed 8-20-18; 8:45 am]

BILLING CODE 4910-13-P